DEPARTMENT OF THE INTERIOR

Fish and Wildlife Service

50 CFR Part 17

[Docket No. FWS-R4-ES-2019-0069, FWS-R4-ES-2019-0070; FXES11130900000-189-FF0932000]

RIN 1018-BE14; 1018-BD01

Reclassifying the Virgin Islands Tree Boa From Endangered to Threatened With a Section 4(d) Rule; Reclassification of Eugenia woodburyana as Threatened and Section 4(d) Rule

AGENCY: Fish and Wildlife Service, Interior.

ACTION: Reopening of comment periods; announcement of public hearing.

SUMMARY: We, the U.S. Fish and Wildlife Service (Service), are reopening the public comment periods on two proposed rules to allow all interested parties additional time to comment, and to conduct a public hearing. The two relevant proposed rules are our September 30, 2020, proposed rule to reclassify the endangered Virgin Islands tree boa (Chilabothrus granti) as a threatened species with a rule issued under section 4(d) of the Endangered Species Act of 1973 (Act), as amended; and our October 21, 2020, proposed rule to reclassify the endangered plant Eugenia woodburyana (no common name) as a threatened species with a rule issued under section 4(d) of the Act. Comments previously submitted need not be resubmitted and will be fully considered in preparation of the final rules.

DATES: Written comments: The comment periods for the proposed rules published on September 30, 2020, at 85 FR 61700, and October 21, 2020, at 85 FR 66906, are reopened. We will accept comments received or postmarked on or before May 26, 2021.

Public hearing: On May 12, 2021, we will hold a public hearing from 6 to 8 p.m., Atlantic Time, using the Zoom platform (for more information, see Public Hearing, below).

ADDRESSES: Availability of documents: You may obtain copies of the proposed rules and their associated documents on the internet at http://www.regulations.gov under the following docket numbers:

Proposed rule | Docket number
Reclassifying the Virgin Islands Tree Boa From Endangered to Threatened With a Section 4(d) Rule (published September 30, 2020, at 85 FR 61700) | FWS-R4-ES-2019-0069.
Reclassification of Eugenia woodburyana as Threatened and Section 4(d) Rule (published October 21, 2020, at 85 FR 66906) | FWS-R4-ES-2019-0070.

Comment submission: You may submit written comments by one of the following methods:

(1) Electronically: Go to the Federal eRulemaking Portal: http://www.regulations.gov. In the Search box, enter the appropriate docket number (see table above). Then, click on the Search button. On the resulting page, in the Search panel on the left side of the screen, under the Document Type heading, click on the Proposed Rule box to locate the document. You may submit a comment by clicking on “Comment Now!” Please ensure you have located the correct document before submitting your comments.

(2) By hard copy: Submit by U.S. mail to: Public Comments Processing, Attn: [Enter appropriate docket number; see table above], U.S. Fish and Wildlife Service, MS: PRB/3W, 5275 Leesburg Pike, Falls Church, VA 22041-3803.

Please note that comments submitted electronically using the Federal eRulemaking Portal must be received by 11:59 p.m. Eastern Time on the closing date, and comments submitted by U.S. mail must be postmarked by that date to ensure consideration. We request that you send comments only by the methods described above. We will post all comments on http://www.regulations.gov. This generally means that we will post any personal information you provide us (see Public Comments, below, for more information).

FOR FURTHER INFORMATION CONTACT: Edwin E. Muñiz, Field Supervisor, U.S. Fish and Wildlife Service, Caribbean Ecological Services Field Office, at either: Road 301 Km 5.1, Corozo Ward, Boquerón, PR 00622; or P.O. Box 491, Boquerón, PR 00622. Telephone 787-405-3641. Persons who use a telecommunications device for the deaf (TDD) may call the Federal Relay Service at 800-877-8339.

SUPPLEMENTARY INFORMATION:

Background

Virgin Islands Tree Boa

On September 30, 2020, we published in the Federal Register (85 FR 61700) a proposed rule to reclassify the Virgin Islands tree boa from endangered to threatened (i.e., to “downlist” the species) under the Act (16 U.S.C. 1531 et seq.). The proposed rule opened a 60-day public comment period, ending November 30, 2020. During the comment period, we received a request for a public hearing. Therefore, we are announcing a public hearing to allow the public an additional opportunity to provide comments on the proposed rule.

For a description of previous Federal actions concerning the Virgin Islands tree boa and information on the types of comments that would be helpful to us in promulgating this rulemaking action, please refer to the September 30, 2020, proposed rule (85 FR 61700).

Eugenia woodburyana

On October 21, 2020, we published in the Federal Register (85 FR 66906) a proposed rule to downlist Eugenia woodburyana from endangered to threatened under the Act. The proposed rule opened a 60-day public comment period, ending December 21, 2020. During the comment period, we received a request for a public hearing. Therefore, we are announcing a public hearing to allow the public an additional opportunity to provide comments on this proposed rule.

For a description of previous Federal actions concerning Eugenia woodburyana and information on the types of comments that would be helpful to us in promulgating this rulemaking action, please refer to the October 21, 2020, proposed rule (85 FR 66906).

Public Hearing

We will hold one public hearing to accept comments on the two proposed rules on the date and at the time listed above under Public hearing in DATES. We are holding the public hearing via the Zoom online video platform and via teleconference so that participants can attend remotely. The use of a virtual public hearing is consistent with our regulations at 50 CFR 424.16(c)(3).

For security purposes, anyone intending to listen to and view the hearing via Zoom, listen to the hearing by telephone, or provide oral public comments at the hearing by Zoom or telephone must register in advance. For information on how to register, or if you encounter problems joining Zoom on the day of the hearing, visit https://www.fws.gov/southeast/caribbean. Registrants will receive the Zoom link and the telephone number for the public hearing. Interested members of the public who are not familiar with the Zoom platform should view the Zoom video tutorials (https://support.zoom.us/hc/en-us/articles/206618765-Zoom-video-tutorials) prior to the public hearing.

The public hearing will provide interested parties an opportunity to present verbal testimony (formal, oral comments) regarding either, or both, of the proposed rules. The public hearing will not be an opportunity for dialogue with the Service, but rather a forum for accepting formal verbal testimony. In the event there is a large attendance, the time allotted for oral statements may be limited. Therefore, anyone wishing to make an oral statement at the public hearing for the record is encouraged to provide a prepared written copy of that statement to us through the Federal eRulemaking Portal, or U.S. mail (see ADDRESSES, above). There are no limits on the length of written comments submitted to us.

Reasonable Accommodation

The Service is committed to providing access to the public hearing for all participants. Closed captioning will be available during the public hearing. Participants will also have access to live audio during the public hearing via their telephone or computer speakers. Persons with disabilities requiring reasonable accommodations to participate in the hearing should contact the person listed under FOR FURTHER INFORMATION CONTACT at least 5 business days prior to the date of the hearing to help ensure availability. An accessible version of the Service's presentation will also be posted online at https://www.fws.gov/southeast/caribbean prior to the hearing (see DATES, above). See https://www.fws.gov/southeast/caribbean for more information about reasonable accommodation. Finally, a full audio and video recording and transcript of the public hearing will be posted online at https://www.fws.gov/southeast/caribbean after the hearing.

Public Comments

If you submit information via http://www.regulations.gov, your entire submission—including any personal identifying information—will be posted on the website. If your submission is made via hard copy that includes personal identifying information, you may request at the top of your document that we withhold this information from public review. However, we cannot guarantee that we will be able to do so. We will post all hardcopy submissions on http://www.regulations.gov. Comments and materials we receive, as well as supporting documentation we used in preparing each proposed rule, will be available for public inspection on http://www.regulations.gov.

Authors

The primary authors of this document are the Ecological Services Species Assessment Team staff of the South Atlantic-Gulf Regional Office, U.S. Fish and Wildlife Service.

Authority

The authority for this action is the Endangered Species Act of 1973, as amended (16 U.S.C. 1531 et seq.).

Martha Williams,
Principal Deputy Director, Exercising the Delegated Authority of the Director, U.S. Fish and Wildlife Service.

[FR Doc. 2021-08580 Filed 4-23-21; 8:45 am]

BILLING CODE 4333-15-P